DEPARTMENT OF LABOR

Office of the Secretary

Notice of Closed Meeting

AGENCY: Bureau of International Labor Affairs, Labor.

ACTION: Notice of closed meeting.

SUMMARY: Pursuant to the provisions of the Federal Advisory Committee Act (Pub. L. 92-463, as amended), notice is hereby given of a meeting of the President's Committee on the International Labor Organization (ILO).

Purpose: The Secretary of Labor will chair a meeting of the President's Committee on the International Labor Organization to review and discuss current issues relating to the United States' tripartite participation in the ILO. The discussion will involve information the premature disclosure of which would be likely to significantly frustrate implementation of a proposed agency action. Accordingly, the meeting will be closed to the public, pursuant to Section 10(d) of the Federal Advisory Committee Act and the Government in the Sunshine Act, 5 U.S.C. 552b(c)(9)(B).

Date, Time and Place: May 4, 2010; 10:30 a.m.; U.S. Department of Labor, Secretary's Conference Room, 200 Constitution Avenue, NW., Washington, DC.

FOR FURTHER INFORMATION CONTACT: Ms. Sandra Polaski, Deputy Undersecretary for International Affairs, U.S. Department of Labor; Phone (202) 693-4770.

SUPPLEMENTARY INFORMATION: The President's Committee on the ILO consists of the Secretaries of Labor (chair), State and Commerce, the Assistants to the President for National Security Affairs and Economic Policy, and the Presidents of the American Federation of Labor and Congress of Industrial Organizations (AFL-CIO) and the U.S. Council for International Business. Under its Charter, the Committee's objective “is to formulate and coordinate United States policy towards the International Labor Organization in order to promote continued reform and progress in that organization.” The Committee considers all matters relating to United States participation in the ILO.

Signed at Washington, DC, this 12th day of April, 2010.
Hilda L. Solis,
Secretary of Labor.

[FR Doc. 2010-8770 Filed 4-15-10; 8:45 am]

BILLING CODE 4510-28-P